DEPARTMENT OF COMMERCE

International Trade Administration

[A-421-807]

Certain Hot-Rolled Carbon Steel Flat Products From the Netherlands; Amended Final Results of Antidumping Duty Administrative Review

AGENCY: Import Administration, International Trade Administration, Department of Commerce.

ACTION: Notice of amended final results of antidumping duty administrative review.

SUMMARY: On June 16, 2004, the Department of Commerce (the Department) published in the Federal Register its notice of final results of the antidumping duty administrative review of certain hot-rolled carbon steel flat products from the Netherlands for the period May 3, 2001 through October 31, 2002. See Certain Hot-Rolled Carbon Steel Flat Products from the Netherlands; Final Results of Antidumping Duty Administrative Review, 69 FR 33630 (June 16, 2004). On June 15, 2004, in accordance with 19 CFR 351.224(c)(2), we received a timely-filed ministerial error allegation from respondent, Corus Staal BV (Corus).¹ We did not receive ministerial error allegations from petitioners.² Based on our analysis of Corus' ministerial error allegation, the Department has revised the antidumping duty margin for Corus. Accordingly, we are amending our final results.

¹ We released disclosure documents to respondent and petitioners on June 9, 2004, thereby making June 14, 2004 the deadline for submitting ministerial error comments. However, in response to a request by respondent, we extended the deadline by one day, until June 15, 2004.

² Petitioners are United States Steel Corporation and Nucor Corporation.

EFFECTIVE DATE: July 22, 2004.

FOR FURTHER INFORMATION CONTACT: Deborah Scott or Robert James, Antidumping and Countervailing Duty Enforcement Group III, Office Eight, Import Administration, International Trade Administration, U.S. Department of Commerce, 14th Street and Constitution Avenue, NW., Washington, DC 20230, telephone: (202) 482-2657 or (202) 482-0649, respectively.

SUPPLEMENTARY INFORMATION:

Scope of the Review

For purposes of this order, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this review. Specifically included within the scope of this order are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products to be included in the scope of this order, regardless of definitions in the Harmonized Tariff Schedule of the United States (HTS), are products in which: (i) Iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of this order unless otherwise excluded. The following products, by way of example, are outside or specifically excluded from the scope of this order:

• Alloy hot-rolled steel products in which at least one of the chemical elements exceeds those listed above (including, e.g., ASTM specifications A543, A387, A514, A517, A506).

• Society of Automotive Engineers (SAE)/American Iron and Steel Institute (AISI) grades of series 2300 and higher.

sbull; Ball bearings steels, as defined in the HTS.

sbull; Tool steels, as defined in the HTS.

• Silico-manganese (as defined in the HTS) or silicon electrical steel with a silicon level exceeding 2.25 percent.

sbull; ASTM specifications A710 and A736.

sbull; USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTS.

The merchandise subject to this order is classified in the HTS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled flat-rolled carbon steel flat products covered by this order, including: Vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTS subheadings are provided for convenience and U.S. Customs purposes, the written description of the scope of this order is dispositive.

Amended Final Results of Review

On June 15, 2004, Corus timely filed, pursuant to 19 CFR 351.224(c)(2), an allegation that the Department made one ministerial error in its final results. For EP transactions with a sale date (i.e., invoice date) prior to importation, Corus states the Department used date of entry to select the transactions used in its analysis. Corus alleges that for these transactions, the Department erred by using the entry date for purposes of currency conversions rather than date of sale. Therefore, Corus requests that the Department correct this error by using date of sale for currency conversions for those EP transactions with a sale date prior to importation. Petitioners submitted no rebuttal comments to this ministerial error allegation.

We agree with Corus. The Tariff Act of 1930, as amended (the Tariff Act), as well as the Department's regulations, define a ministerial error as one involving “addition, subtraction, or other arithmetic function, clerical errors resulting from inaccurate copying, duplication, or the like, and any other type of unintentional error which the Secretary considers ministerial.” See section 751(h) of the Tariff Act and 19 CFR 351.224(f). The Department's regulations also provide that “[i]n an antidumping proceeding, the Secretary will convert foreign currencies into United States dollars using the rate of exchange on the date of sale of the subject merchandise.” See 19 CFR 351.415(a). For purposes of our analysis, in utilizing entry date to select EP sales with a sale date prior to importation, we unintentionally set date of sale equal to entry date for those transactions. Because invoice date should have been used as date of sale for those transactions for purposes of currency conversions, we have corrected this inadvertent error by using date of sale for purposes of currency conversions. See lines 2601, 2608, and 2901 of the amended U.S. sales program.

In accordance with 19 CFR 351.224(e), we have amended the final results of the 2001-2002 antidumping duty administrative review of certain hot-rolled carbon steel flat products from the Netherlands, as noted above. As a result of this correction, Corus' margin decreased from 4.94 percent to 4.80 percent ad valorem.

The Department shall determine and U.S. Customs and Border Protection (CBP) shall assess antidumping duties on all appropriate entries. As a result of the Court of International Trade's decision in Corus Staal BV et al. v. United States, Consol. Court No. 02-00003, Slip Op. 03-127 (CIT September 29, 2003), we will not assess duties on merchandise that entered between October 30, 2001 and November 28, 2001, inclusive. For more information, see Certain Hot-Rolled Carbon Steel Flat Products From The Netherlands: Notice of Final Court Decision and Suspension of Liquidation, 68 FR 60912 (October 24, 2003). Thus, in accordance with 19 CFR 351.212(b)(1), we will calculate an importer-specific ad valorem assessment rate for merchandise based on the ratio of the total amount of antidumping duties calculated for the examined sales made during the POR to the total customs value of the sales used to calculate those duties. Where the importer-specific assessment rate is above de minimis, we will instruct CBP to assess duties on all appropriate entries of subject merchandise by that importer. This rate will be assessed uniformly on all entries of that particular importer made during the periods May 3, 2001 through October 29, 2001 and November 29, 2001 through October 31, 2002. The Department will issue appropriate assessment instructions directly to CBP within 15 days of publication of the final results of review.

The amended cash deposit requirement is effective for all shipments of subject merchandise manufactured by Corus entered, or withdrawn from warehouse, for consumption on or after the date of publication of this notice and shall remain in effect until publication of the final results of the next administrative review.

These amended final results are issued and published in accordance with section 751(h) of the Tariff Act and 19 CFR 351.224.

Dated: July 14, 2004.
James J. Jochum,
Assistant Secretary for Import Administration.

[FR Doc. 04-16743 Filed 7-21-04; 8:45 am]

BILLING CODE 3510-DS-P